DEPARTMENT OF COMMERCE

Foreign-Trade Zones Board

[Docket 21-2009]

Foreign-Trade Zone 124—Gramercy, LA, Application for Subzone, Excalibar Minerals LLC (Barite Milling), New Iberia, LA

An application has been submitted to the Foreign-Trade Zones Board (the Board) by the Port of South Louisiana, grantee of Foreign-Trade Zone (FTZ) 124, requesting special-purpose subzone status for the barite milling facility of Excalibar Minerals LLC (Excalibar), located in New Iberia, Louisiana. The application was submitted pursuant to the provisions of the Foreign-Trade Zones Act, as amended (19 U.S.C. 81a-81u), and the regulations of the Board (15 CFR Part 400). It was formally filed on May 6, 2009.

The Excalibar facility (20 employees, 16 acres, 350,000 ton capacity for ground barite) is located at 4602 South Lewis Street, in New Iberia. The facility is used for activities related to the milling (heating, grinding, crushing), storage and distribution of ground barite, primarily for the U.S. market. The material that would be purchased from abroad (representing approximately 75 to 85 percent of the finished product's value) is raw barite (HTSUS number 2511.10), dutiable at $1.25 per metric ton.

FTZ procedures could exempt the company from customs duty payments on the foreign component used in export production. The company anticipates that less than 1 percent of the plant's shipments will be exported. On its domestic sales, Excalibar would be able to choose the duty rate during customs entry procedures that applies to the ground barite (duty-free) for the foreign input noted above. FTZ designation would further allow Excalibar to realize logistical benefits through the use of weekly customs entry procedures, as well as savings from the elimination of duties on materials that become scrap/waste during manufacturing. The application indicates that the FTZ-related savings would help improve the facility's international competitiveness.

In accordance with the Board's regulations, Christopher Kemp of the FTZ staff is designated examiner to investigate the application and report to the Board.

Public comment is invited from interested parties. Submissions (original and 3 copies) shall be addressed to the Board's Executive Secretary at the address listed below. The closing period for their receipt is July 20, 2009. Rebuttal comments in response to material submitted during the foregoing period may be submitted during the subsequent 15-day period (to August 3, 2009).

A copy of the application and accompanying exhibits will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher_Kemp@ita.doc.gov or (202) 482-0862.

Dated: May 6, 2009.
Andrew McGilvray,
Executive Secretary.

[FR Doc. E9-11671 Filed 5-18-09; 8:45 am]

BILLING CODE P